FEDERAL COMMUNICATIONS COMMISSION

[17567]

Open Commission Meeting Wednesday, March 17, 2021

March 10, 2021.

The Federal Communications Commission will hold an Open Meeting on the subjects listed below on Wednesday, March 17, 2021, which is scheduled to commence at 10:30 a.m.

Due to the current COVID-19 pandemic and related agency telework and headquarters access policies, this meeting will be in a wholly electronic format and will be open to the public on the internet via live feed from the FCC's web page at www.fcc.gov/live and on the FCC's YouTube channel.

Item No. | Bureau | Subject
1 | PUBLIC SAFETY & HOMELAND SECURITY | Title: Promoting Public Safety Through Information Sharing (PS Docket No. 15-80). Summary: The Commission will consider a Second Report and Order that would provide state and federal agencies with direct, read-only access to communications outage data for public safety purposes while also preserving the confidentiality of that data.
2 | PUBLIC SAFETY & HOMELAND SECURITY | Title: Amendment of Part 11 of the Commission's Rules Regarding the Emergency Alert System (PS Docket No. 15-94); Wireless Emergency Alerts (PS Docket No. 15-91).
|  | Summary: The Commission will consider a Notice of Proposed Rulemaking and Notice of Inquiry to implement section 9201 of the National Defense Authorization Act for Fiscal Year 2021, which is intended to improve the way the public receives emergency alerts on their mobile phones, televisions, and radios.
3 | WIRELESS TELE-COMMUNICATIONS OFFICE OF ECONOMICS AND ANALYTICS, AND OFFICE OF ENGINEERING AND TECHNOLOGY | Title: Facilitating Shared Use in the 3.45 GHz Band (WT Docket No. 19-348). Summary: The Commission will consider a Second Report and Order that would establish rules to create a new 3.45 GHz Service operating between 3.45-3.55 GHz, making 100 megahertz of mid-band spectrum available for flexible use throughout the contiguous United States.
4 | OFFICE OF ECONOMICS AND ANALYTICS | Title: Auctioning Flexible-Use Service Licenses in the 3.45-3.55 GHz Band (AU Docket No. 21-62). Summary: The Commission will consider a Public Notice that would seek comment on application and bidding procedures for Auction 110, the auction of flexible use licenses in the 3.45-3.55 GHz band.
5 | WIRELESS TELE-COMMUNICATIONS OFFICE OF ECONOMICS AND ANALYTICS OFFICE OF ENGINEERING AND TECHNOLOGY INTERNATIONAL WIRELINE COMPETITION AND PUBLIC SAFETY AND HOMELAND SECURITY | Title: Promoting the Deployment of 5G Open Radio Access Networks (GN Docket No. 21-63). Summary: The Commission will consider a Notice of Inquiry seeking comment on the current status of Open Radio Access Networks (Open RAN) and virtualized network environments, including potential obstacles to their development and deployment, and whether and how deployment of Open RAN-compliant networks could further the Commission's policy goals and statutory obligations.
6 | INTERNATIONAL | Title: National Security Matter. Summary: The Commission will consider a national security matter.
7 | INTERNATIONAL | Title: National Security Matter. Summary: The Commission will consider a national security matter.
8 | ENFORCEMENT | Title: Enforcement Bureau Action. Summary: The Commission will consider an Enforcement Bureau Action.

* * * * *

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2021-05540 Filed 3-16-21; 8:45 am]

BILLING CODE 6712-01-P